DEPARTMENT OF ENERGY

Federal Energy Regulatory Commission

Combined Notice of Filings # 1

Date: April 03, 2008.

Take notice that the Commission received the following electric corporate filings:

Docket Numbers: EC08-64-000.

Applicants: FirstEnergy Nuclear Generation Corp.

Description: FirstEnergy Nuclear Generation Corp. submits an application requesting authorization to consummate transactions whereby FE Nuclear may acquire interests in existing generating facilities pursuant to Section 203 of FPA.

Filed Date: 03/28/2008.

Accession Number: 20080401-0083.

Comment Date: 5 p.m. Eastern Time on Friday, April 18, 2008.

Take notice that the Commission received the following electric rate filings:

Docket Numbers: ER99-2156-013; ER96-719-019; ER97-2801-020.

Applicants: Cordova Energy Company LLC; MidAmerican Energy Company; PacifiCorp.

Description: Cordova Energy Company LLC et al. submits workpapers of Mr Rodney Frame that support their 3/31/08 filing of change in status.

Filed Date: 03/31/2008; 04/01/2008.

Accession Number: 20080402-0113; 20080402-0125.

Comment Date: 5 p.m. Eastern Time on Monday, April 21, 2008.

Docket Numbers: ER06-613-005.

Applicants: ISO New England Inc.

Description: ISO New England submits report on the status of the implementation of certain reserve market changes that were included as part of Phase II of the Ancillary Services Market Project.

Filed Date: 04/01/2008.

Accession Number: 20080403-0068.

Comment Date: 5 p.m. Eastern Time on Tuesday, April 22, 2008.

Docket Numbers: ER08-375-002.

Applicants: Southern California Edison Company.

Description: Southern California Edison submits a descriptive list of the costs that they included as Construction Work in Progress in rate base.

Filed Date: 03/31/2008.

Accession Number: 20080402-0103.

Comment Date: 5 p.m. Eastern Time on Monday, April 21, 2008.

Docket Numbers: ER08-441-002.

Applicants: Velocity American Energy Master I, L.P.

Description: Velocity American Energy Master I, LP submits Original Sheet 1 to FERC Electric Tariff, Original Volume 1.

Filed Date: 04/02/2008.

Accession Number: 20080403-0078.

Comment Date: 5 p.m. Eastern Time on Wednesday, April 23, 2008.

Docket Numbers: ER08-631-001.

Applicants: Raider Dog LLC.

Description: Raider Dog LLC submits an amendment to the petition for application for acceptance of initial tariff, waivers and blanket authority.

Filed Date: 03/31/2008.

Accession Number: 20080402-0105.

Comment Date: 5 p.m. Eastern Time on Monday, April 21, 2008.

Docket Numbers: ER08-665-001.

Applicants: Eastland Power LLC.

Description: Eastland Power, LLC submits an amended application for market-based authorizations, certain waivers and blanket Authorizations and request for expedited treatment.

Filed Date: 03/31/2008.

Accession Number: 20080402-0104.

Comment Date: 5 p.m. Eastern Time on Monday, April 21, 2008.

Docket Numbers: ER08-745-000.

Applicants: Pacific Gas and Electric Company.

Description: Pacific Gas and Electric Company submits Agreements for wholesale distribution service and Interconnection between PG&E and Electric Company and Hercules Municipal Utility.

Filed Date: 03/31/2008.

Accession Number: 20080403-0040.

Comment Date: 5 p.m. Eastern Time on Monday, April 21, 2008.

Docket Numbers: ER08-749-000.

Applicants: Xcel Energy; Southwestern Public Service Company.

Description: Southwestern Public Service Company submits increased rates, to be effective June 1, 2008 applicable to service to wholesale full requirements customers Cap Rock Energy Corporation et al.

Filed Date: 03/31/2008.

Accession Number: 20080402-0063.

Comment Date: 5 p.m. Eastern Time on Monday, April 21, 2008.

Docket Numbers: ER08-750-000.

Applicants: Entergy Services, Inc.; Entergy Arkansas Inc.

Description: Entergy Arkansas Inc submits the 2008 Wholesale Formula Rate Update in accordance with the Power Coordination, Interchange and Transmission Service Agreements with the City of Osceola Arkansas Corp.

Filed Date: 03/28/2008.

Accession Number: 20080401-0092.

Comment Date: 5 p.m. Eastern Time on Friday, April 18, 2008.

Docket Numbers: ER08-751-000.

Applicants: Entergy Services, Inc.; Entergy Arkansas, Inc.

Description: Entergy Arkansas, Inc submits the 2008 Wholesale Formula Rate Update.

Filed Date: 03/28/2008.

Accession Number: 20080401-0091.

Comment Date: 5 p.m. Eastern Time on Friday, April 18, 2008.

Docket Numbers: ER08-752-000.

Applicants: Entergy Services, Inc.; Entergy Arkansas, Inc.

Description: Entergy Arkansas, Inc submits the 2008 Wholesale Formula Rate Update.

Filed Date: 03/28/2008.

Accession Number: 20080401-0090.

Comment Date: 5 p.m. Eastern Time on Friday, April 18, 2008.

Docket Numbers: ER08-762-000.

Applicants: New England Power Pool.

Description: The New England Power Pool Participants Committee submits member applications and terminations of NEPOOL Membership.

Filed Date: 04/01/2008.

Accession Number: 20080402-0101.

Comment Date: 5 p.m. Eastern Time on Tuesday, April 22, 2008.

Docket Numbers: ER08-763-000.

Applicants: Appalachian Power Company.

Description: Appalachian Power Co submits a Cost-Base Formula Rate Agreement, FERC Rate Schedule 156.

Filed Date: 04/01/2008.

Accession Number: 20080402-0102.

Comment Date: 5 p.m. Eastern Time on Tuesday, April 22, 2008.

Docket Numbers: ER08-764-000.

Applicants: Consolidated Edison Co. of New York, Inc.

Description: Consolidated Edison Company of New York, Inc. submits amendments to their Delivery Service Rate Schedule 96 et al.

Filed Date: 03/31/2008.

Accession Number: 20080402-0111.

Comment Date: 5 p.m. Eastern Time on Monday, April 21, 2008.

Docket Numbers: ER08-766-000.

Applicants: Southwest Power Pool, Inc.

Description: Southwest Power Pool, Inc. submits an unexecuted service agreement for Network Integration Transmission Service with Kansas Power Pool.

Filed Date: 03/31/2008.

Accession Number: 20080402-0108.

Comment Date: 5 p.m. Eastern Time on Monday, April 21, 2008.

Docket Numbers: ER08-767-000.

Applicants: Entergy Services Inc.

Description: Entergy Arkansas, Inc. requests that FERC accept their request for authorization to recover Schedule 9 costs etc.

Filed Date: 03/31/2008.

Accession Number: 20080402-0107.

Comment Date: 5 p.m. Eastern Time on Monday, April 21, 2008.

Docket Numbers: ER08-768-000.

Applicants: Xcel Energy Services Inc.

Description: Public Service Company of Colorado submits an Emergency Assistance Operating Agreement with Public Service Company of New Mexico.

Filed Date: 03/31/2008.

Accession Number: 20080403-0075.

Comment Date: 5 p.m. Eastern Time on Monday, April 21, 2008.

Docket Numbers: ER08-769-000.

Applicants: MidAmerican Energy Company.

Description: MidAmerican Energy Company submits a Network Integration Transmission Service Agreement and Network Operating Agreement with Atlantic Municipal Utilities dated 3/31/08 to MidAmerican's Open Access Transmission Tariff.

Filed Date: 04/01/2008.

Accession Number: 20080403-0074.

Comment Date: 5 p.m. Eastern Time on Tuesday, April 22, 2008.

Docket Numbers: ER08-772-000.

Applicants: Wolverine Power Supply Cooperative, Inc.

Description: Wolverine Power Supply Cooperative, Inc submits an executed Wholesale Distribution Service Agreement with Zeeland Board of Public Works, a Department of The City of Zeeland.

Filed Date: 04/01/2008.

Accession Number: 20080403-0071.

Comment Date: 5 p.m. Eastern Time on Tuesday, April 22, 2008.

Docket Numbers: ER08-773-000.

Applicants: Wisconsin Public Service Corporation.

Description: Wisconsin Public Service Corporation submits its FERC Electric Tariff, Fifth Revised Volume 1 and two revised service agreements between WPSC and Manitowoc Public Utilities under ER08-773.

Filed Date: 04/01/2008.

Accession Number: 20080403-0070.

Comment Date: 5 p.m. Eastern Time on Tuesday, April 22, 2008.

Docket Numbers: ER08-774-000.

Applicants: Entergy Services, Inc.

Description: Entergy Operating Companies submits an amendment to the Entergy System Agreement.

Filed Date: 04/01/2008.

Accession Number: 20080403-0069.

Comment Date: 5 p.m. Eastern Time on Tuesday, April 22, 2008.

Docket Numbers: ER08-775-000.

Applicants: PJM Interconnection, L.L.C.

Description: PJM Interconnection LLC submits an executed Interconnection Service Agreement among PJM, Tenaska Virginia II Partners, LP and Virginia Electric and Power Company etc.

Filed Date: 04/01/2008.

Accession Number: 20080403-0067.

Comment Date: 5 p.m. Eastern Time on Tuesday, April 22, 2008.

Docket Numbers: ER08-777-000.

Applicants: Westar Energy, Inc.

Description: Westar Energy Inc et al. submits the revised tariff sheets to the Rate Formula Template set forth as Attachment H-1 to their FERC Open Access Transmission Tariff.

Filed Date: 04/01/2008.

Accession Number: 20080403-0065.

Comment Date: 5 p.m. Eastern Time on Tuesday, April 22, 2008.

Docket Numbers: ER08-778-000.

Applicants: New York Independent System Operator, Inc.

Description: New York Independent System Operator Inc submits its Open Access Transmission Tariff & Market Administration and Control Area Services tariff to modify the credit requirements for holding Transmission Congestion Contracts.

Filed Date: 04/02/2008.

Accession Number: 20080403-0084.

Comment Date: 5 p.m. Eastern Time on Thursday, April 17, 2008.

Docket Numbers: ER08-780-000.

Applicants: PJM Interconnection, L.L.C.

Description: PJM Interconnection LLC submits revisions to the PJM Open Access Transmission Tariff and Amended and Restated Operating Agreement.

Filed Date: 03/31/2008.

Accession Number: 20080403-0098.

Comment Date: 5 p.m. Eastern Time on Monday, April 21, 2008.

Take notice that the Commission received the following open access transmission tariff filings:

Docket Numbers: OA07-2-002.

Applicants: Sierra Pacific Resources Operating Company.

Description: Order No. 890 OATT Imbalance Penalty Revenue Compliance Filing of Sierra Pacific Resources Operating Companies.

Filed Date: 04/02/2008.

Accession Number: 20080403-5034.

Comment Date: 5 p.m. Eastern Time on Wednesday, April 23, 2008.

Docket Numbers: OA08-98-000.

Applicants: Aquila, Inc.

Description: Aquila, Inc.'s Order No. 890-A Compliance Filing in OA08-98.

Filed Date: 04/03/2008.

Accession Number: 20080403-5035.

Comment Date: 5 p.m. Eastern Time on Thursday, April 24, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed docket(s). For assistance with any FERC Online service, please email FERCOnlineSupport@ferc.gov or call (866) 208-3676 (toll free). For TTY, call (202) 502-8659.

Nathaniel J. Davis, Sr.,
Deputy Secretary.

[FR Doc. E8-7437 Filed 4-8-08; 8:45 am]

BILLING CODE 6717-01-P